DEPARTMENT OF AGRICULTURE

Economic Research Service

Notice of Intent To Request Renewal of a Currently Approved Information Collection

AGENCY: Economic Research Service, USDA.

ACTION: Notice and request for comments.

SUMMARY: In accordance with the Paperwork Reduction Act of 1995, this notice invites the general public and other public agencies to send comments regarding any aspect of this information collection. This notice announces the intention of the Economic Research Service to request a renewal to a currently approved information collection, namely a pilot generic clearance for experimental economic research.

DATES: Written comments on this notice must be received on or before November 14, 2014 to be assured of consideration.

ADDRESSES: Address all comments concerning this notice to Nathaniel Higgins, Resource and Rural Economics Division, Economic Research Service, U.S. Department of Agriculture, 1400 Independence Ave. SW., Mail Stop 1800, Room 6-135B, Washington, DC 20250-0002. Comments may also be submitted via fax to the attention of Nathaniel Higgins at 202-245-4847 or via email to nhiggins@ers.usda.gov.

All written comments will be open for public inspection at the office of the Economic Research Service during regular business hours (8:30 a.m. to 5:00 p.m., Monday through Friday) at 355 E St. SW., Room 6-135B, Washington, DC 20024-3221.

All responses to this notice will be summarized and included in the request for Office of Management and Budget approval. All comments and replies will be a matter of public record. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

FOR FURTHER INFORMATION CONTACT: For further information contact Nathaniel Higgins at the mailing address in the preamble. Tel. 202-694-5602.

SUPPLEMENTARY INFORMATION: Title: A Pilot Generic Clearance for Experimental Economic Research.

OMB Number: 0536-0070.

Expiration Date: November 30, 2014.

Type of Request: Renewal of a currently approved information collection.

Abstract: The Economic Research Service (ERS) of the United States Department of Agriculture (USDA) requests approval from the Office of Management and Budget (OMB) for renewal of a pilot generic clearance that allows ERS to conduct experimental economic research into the cost-effectiveness of alternative policy mechanisms. ERS offers policy-relevant research to its stakeholders, including other agencies of the USDA, but does not offer recommendations or make policy decisions itself. Research conducted under the expected clearance will be used to assess features of alternative policy mechanisms, but will not be used for the purposes making regulatory decisions; ERS does not intend to use the information collected under this approval for the purposes of developing or evaluating specific policies. ERS will not conduct any experiments which alter a government program. ERS has no regulatory or program authority with which to conduct such an experiment.

The primary mission of ERS is to provide economic and other social science information and analysis for public and private decisions on agriculture, food, natural resources, and rural America. ERS has constructed a set of key strategic goals in support of this mission. Research conducted under this generic clearance will further an ongoing initiative that would use insights from behavioral economics to provide economic intelligence, research, and analysis to inform agricultural resource and conservation policies. Information collected from these experiments will allow ERS to develop and implement state-of-the-art research methodologies to better inform and advance scientific understanding for its customers in response to both specific requests and in anticipation of future need.

ERS envisions using a number of research techniques, as appropriate to the individual investigation. These include laboratory and field techniques, exploratory interviews, pilot experiments, and respondent debriefing. Laboratory and field techniques are two methodologies based on comparison of outcomes over groups that have been randomized into different treatments. This request is being sought as a continuing pilot of the concept of using a generic approval mechanism for those types of experiments. As such, experiments will be limited to two topic areas: Conservation and nutrition.

Following standard OMB requirements ERS will submit to OMB individually for review of each specific experiment it undertakes under this generic clearance and provide OMB with all materials associated with the experiment.

Authority: Legislative authority for the planned information collection are 7 U.S.C. 2204(a) and 7 U.S.C. 2026(a)(1).

ERS intends to protect respondent information under the Privacy Act of 1974 and the E-Government Act of 2002. ERS has decided not to invoke the Confidential Information Protection and Statistical Efficiency Act of 2002 (CIPSEA). The complexity and cost necessary to invoke CIPSEA is not justified given the nature of the collection; the collections would generally be designed to be hosted in university computer labs, where CIPSEA compliance could not be assured.

Consistent with the Privacy Act and the E-Government Act, a Systems of Records Notice (SORN) and a Privacy Impact Assessment (PIA) will be submitted for approval, as appropriate. The SORN and PIA will document the ways in which participant personally identifiable information will be collected, stored, and accessed. Data will be managed for research purposes only.

Specific details regarding information handling will be specified in individual submissions under this generic clearance, but will conform to these broad guidelines.

Affected Public: Respondents will include individuals and households.

Estimated Number of Respondents and Respondent Burden: In all cases, participation will be voluntary and time commitments will be minimal (15-90 minutes). No experiments will put participants at risk of physical, monetary, or psychological harm. No data collection is estimated to take longer than 90 minutes per respondent, including the time required for respondents and non-respondents to review instructions and participate in the data collection.

The estimated number of respondents participating in data collections under this generic clearance over an eighteen months period is 6,900. The maximum total estimated response burden for all of those participating in the study is 7,025 hours.

Type of research instrument | Estimated number of respondents | Estimated number of responses per respondent | Average burden-hours per response | Estimated total burden hours requested
Laboratory study | 4,240 | 1 | 1.5 (90 mins) | 6,360
Field study | 2,660 | 1 | ≤1 (15 mins) | 665
Total | 6,900 |  |  | 7,025

Dated: September 4, 2014.
Mary Bohman,
Administrator, Economic Research Service.

[FR Doc. 2014-21904 Filed 9-12-14; 8:45 am]

BILLING CODE 3410-18-P